DEPARTMENT OF COMMERCE

National Oceanic and Atmospheric Administration

50 CFR Part 648

[Docket No. 130822745-4627-01]

RIN 0648-BD64

Magnuson-Stevens Fishery Conservation and Management Act Provisions; Fisheries of the Northeastern United States; Atlantic Surfclam and Ocean Quahog Fishery; Information Collection

AGENCY: National Marine Fisheries Service (NMFS), National Oceanic and Atmospheric Administration (NOAA), Commerce.

ACTION: Proposed rule; reopening of comment period.

SUMMARY: NMFS reopens the comment period on the proposed rule to implement an information collection program for the Atlantic surfclam and ocean quahog fishery that published on August 7, 2014. The original comment period closed on September 8, 2014. The Mid-Atlantic Fishery Management Council requested the comment period be reopened to allow for additional public comment through October 17, 2014, to be submitted after this proposed action is discussed at the upcoming Council meeting.

DATES: The comment period for the proposed rule published August 7, 2014 (79 FR 46233), is reopened. Public comment must be received by October 17, 2014.

ADDRESSES: You may submit comments, identified by NOAA-NMFS-2014-0088, by any of the following methods:

• Electronic Submissions: Submit all electronic public comments via the Federal e-Rulemaking Portal. Go to www.regulations.gov/#!docketDetail;D=NOAA-NMFS-2014-0088, click the “Comment Now!” icon, complete the required fields, and enter or attach your comments.

• Mail: John K. Bullard, Regional Administrator, NMFS, Greater Atlantic Regional Fisheries Office, 55 Great Republic Drive, Gloucester, MA 01930. Mark the outside of the envelope: “Comments on Surfclam/Ocean Quahog Information Collection.”

Instructions: All comments received are part of the public record and will generally be posted to www.regulations.gov without change. All Personal Identifying Information (for example, name, address, etc.) voluntarily submitted by the commenter may be publicly accessible. Do not submit confidential business information or otherwise sensitive or protected information.

NMFS will accept anonymous comments. Attachments to electronic comments will be accepted via Microsoft Word, Microsoft Excel, WordPerfect, or Adobe PDF file formats only.

Written comments regarding the burden-hour estimates or other aspects of the collection-of-information requirements contained in this proposed rule may be submitted to the Greater Atlantic Regional Fisheries Office and by email to OIRA_Submission@omb.eop.gov or fax to (202) 395-5806.

FOR FURTHER INFORMATION CONTACT: Douglas Potts, Fishery Policy Analyst, 978-281-9341.

SUPPLEMENTARY INFORMATION:

Background

Section 402(a)(1) for the Magnuson-Stevens Fishery Conservation and Management Act authorizes the Secretary of Commerce to implement an information collection program if a fishery management council determines that additional information would be beneficial for developing, implementing, or revising a fishery management plan. The Mid-Atlantic Fishery Management Council requested that NMFS implement an information collection program in the Atlantic surfclam and ocean quahog individual transferable quota (ITQ) fisheries. The specific components of the requested information collection are detailed in a white paper titled, “Data Collection Recommendations for the Surfclam and Ocean Quahog Fisheries,” that was prepared by the Surfclam and Ocean Quahog Data Collection Fishery Management Action Team at the direction of the Council. The purpose of this information collection is to better identify the specific individuals who hold or control ITQ allocation in these fisheries. The Council will use the information collected to inform the development of a future management action intended to establish an excessive share cap as part of the Council's Atlantic Surfclam and Ocean Quahog Fishery Management Plan.

On August 7, 2014, NMFS published in the Federal Register a proposed rule to implement the Council's requested information collection program with a 30-day comment period that closed on September 8, 2014 (79 FR 46233). NMFS received a request from the Council to extend the comment period until after the Council meeting on October 7-9, 2014, to allow the Council to hold a public discussion of the proposed measures. Therefore, to allow for additional public comment to be submitted after this proposed action is discussed at the Council meeting, NMFS is reopening the comment period on the proposed rule through October 17, 2014. Comments submitted during the prior comment period have been incorporated into the public record, and will be fully considered during preparation of our final determination.

Authority: 16 U.S.C. 1801 et seq.

Dated: September 26, 2014.
Samuel D. Rauch III,
Deputy Assistant Administrator for Regulatory Programs, National Marine Fisheries Service.

[FR Doc. 2014-23432 Filed 10-1-14; 8:45 am]

BILLING CODE 3510-22-P